DEPARTMENT OF TRANSPORTATION

Federal Aviation Administration

14 CFR Part 39

[Docket No. FAA-2017-0130; Product Identifier 2016-NM-058-AD; Amendment 39-18986; AD 2017-16-09]

RIN 2120-AA64

Airworthiness Directives; Dassault Aviation Airplanes

AGENCY: Federal Aviation Administration (FAA), Department of Transportation (DOT).

ACTION: Final rule.

SUMMARY: We are adopting a new airworthiness directive (AD) for all Dassault Aviation Model MYSTERE-FALCON 50 airplanes and FALCON 2000 airplanes. This AD was prompted by a report indicating that during ground maintenance, a Model FALCON 2000 airplane experienced a loss of hydraulic pressure affecting both hydraulic systems due to damage to both brake hoses on the main landing gear (MLG). This AD requires an inspection for certain brake hoses, installation of protective wraps or installation of certain brake hoses, and replacement of certain brake hoses. We are issuing this AD to address the unsafe condition on these products.

DATES: This AD is effective September 25, 2017.

The Director of the Federal Register approved the incorporation by reference of certain publications listed in this AD as of September 25, 2017.

ADDRESSES: For service information identified in this final rule, contact Dassault Falcon Jet Corporation, Teterboro Airport, P.O. Box 2000, South Hackensack, NJ 07606; telephone: 201-440-6700; Internet: http://www.dassaultfalcon.com. You may view this referenced service information at the FAA, Transport Standards Branch, 1601 Lind Avenue SW., Renton, WA. For information on the availability of this material at the FAA, call 425-227-1221. It is also available on the Internet at http://www.regulations.gov by searching for and locating Docket No. FAA-2017-0130.

Examining the AD Docket

You may examine the AD docket on the Internet at http://www.regulations.gov by searching for and locating Docket No. FAA-2017-0130; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Tom Rodriguez, Aerospace Engineer, International Section, Transport Standards Branch, FAA, 1601 Lind Avenue SW., Renton, WA 98057-3356; telephone: 425-227-1137; fax: 425-227-1149.

SUPPLEMENTARY INFORMATION:

Discussion

We issued a notice of proposed rulemaking (NPRM) to amend 14 CFR part 39 by adding an AD that would apply to all Dassault Aviation Model MYSTERE-FALCON 50 airplanes and FALCON 2000 airplanes. The NPRM published in the Federal Register on March 23, 2017 (82 FR 14832) (“the NPRM”).

The European Aviation Safety Agency (EASA), which is the Technical Agent for the Member States of the European Union, has issued EASA AD 2013-0255, dated October 23, 2013 (referred to after this as the Mandatory Continuing Airworthiness Information, or “the MCAI”), to correct an unsafe condition for all Dassault Aviation Model MYSTERE-FALCON 50 airplanes and FALCON 2000 airplanes. The MCAI states:

During ground maintenance, a Falcon 2000 aeroplane experienced a loss of hydraulic pressure, affecting both hydraulic systems.

The investigation results revealed that this event was due to damage to both brake hoses on the same main landing gear (MLG), which chafed against the torque link assembly during MLG extension/retraction cycle. The Part Numbers (P/N) of the affected brake hoses are P/N AE705317-1 and P/N 00-200-1268, which are made of a braided stainless steel sleeve.

This condition, if not detected and corrected, could lead to loss of braking during landing or a rejected take-off, possibly resulting in a runway excursion. In addition, there is a risk of fire if the leaking brake hydraulic fluid reaches hot parts.

For the reasons described above, this [EASA] AD requires a one-time inspection of the brake hoses to identify the P/N and determine the presence of protection against chafing and, depending on findings, installation of protective wraps or replacement of the brake hoses with serviceable parts that have a Dacron sleeve protection.

You may examine the MCAI in the AD docket on the Internet at http://www.regulations.gov by searching for and locating Docket No. FAA-2017-0130.

Comments

We gave the public the opportunity to participate in developing this AD. The following presents the comments received on the NPRM and the FAA's response to each comment.

Request To Clarify the Applicability

Dassault Aviation requested that the “Applicability” paragraph of the proposed AD be clarified. Dassault Aviation stated the “Applicability” paragraph should be clarified to state that the proposed AD affects Dassault Aviation Model MYSTERE-FALCON 50 airplanes (including all commercial variants) and FALCON 2000 airplanes. Dassault Aviation stated that all commercial variants include F50EX airplanes.

We agree to clarify the applicability of this AD. Paragraph (c) of this AD specifies all Dassault Aviation Model MYSTERE-FALCON 50 airplanes and FALCON 2000 airplanes. The applicability of this AD identifies model designations as published in the most recent type certificate data sheet for the affected models. We have revised this AD by adding a new Note 1 to paragraph (c) of this AD to state that Model MYSTERE-FALCON 50 airplanes include all commercial variants, including F50EX airplanes.

Request To Revise the Compliance Time Threshold

NetJets requested that we revise the compliance time threshold in paragraph (h) of the proposed AD. NetJets commented that paragraph (h) of the proposed AD requires that the protective wrap installation be performed concurrently with paragraph (g) of the proposed AD. NetJets stated that if the compliance time threshold in paragraph (h) of the proposed AD was changed to “within 9 months after the effective date of this AD,” it would allow a records review per paragraph (g) and compliance with paragraph (h) without unnecessarily grounding airplanes and also maintain the intended compliance threshold of the NPRM. NetJets stated that paragraph (g) of the proposed AD may be performed by a records inspection, which could be accomplished independently of access to the airplane and could possibly ground an airplane due to records discrepancies well before the compliance time threshold specified in paragraph (g) of the proposed AD.

We agree with the commenter's request. We have revised paragraph (h) of this AD to include a compliance time of 9 months, which corresponds with the compliance time in the MCAI.

Request To Use Messier-Dowty Service Information

NetJets requested that the NPRM be revised to include Messier-Dowty service information as an optional method of compliance. NetJets stated that paragraph (i) of the proposed AD specifies compliance using Dassault Service Bulletin F50-518, dated April 14, 2011, and Dassault Service Bulletin F2000-368, dated May 29, 2009, which incorporate Messier-Dowty Service Bulletin C23791-32-062, dated February 22, 2011, and Messier-Dowty Service Bulletin D23345-32-020, dated May 14, 2009, respectively. Net Jets stated that new and overhauled landing gear include compliance information with the Messier-Dowty service information, but not with the Dassault service information; therefore, compliance with the Messier-Dowty service information should be included as optional methods of compliance with paragraph (i) of the proposed AD in addition to the Dassault service information.

We agree with the commenter's request. We agree that in the Accomplishment Instructions of Dassault Service Bulletin F50-518, dated April 14, 2011; and Dassault Service Bulletin F2000-368, dated May 29, 2009, specifies to replace the MLG brake hose using Messier-Dowty Service Bulletin C23791-32-062, dated February 22, 2011, and Messier-Dowty Service Bulletin D23345-32-020, dated May 14, 2009, as applicable. For clarification, we have added Note 2 to paragraphs (h)(2) and (i) of this AD to state that Dassault Service Bulletin F50-518, dated April 14, 2011, refers to Messier-Dowty Service Bulletin C23791-32-062, dated February 22, 2011; and Dassault Service Bulletin F2000-368, dated May 29, 2009, refers to Messier-Dowty Service Bulletin D23345-32-020, dated May 14, 2009; as additional sources of guidance for doing the replacement of certain brake hoses.

Conclusion

We reviewed the relevant data, considered the comments received, and determined that air safety and the public interest require adopting this AD with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

We have reviewed the following Dassault service information.

• Dassault Service Bulletin F50-510, Revision 2, dated December 20, 2012; and Dassault Service Bulletin F2000-382, Revision 2, dated May 12, 2011. This service information describes procedures for an inspection of the brake hoses to identify whether brake hoses having certain part numbers are installed, and installation of protective wraps on the brake hoses or installation of certain brake hoses that are fitted with Dacron sleeves. These documents are distinct since they apply to different airplane models.

• Dassault Service Bulletin F50-518, dated April 14, 2011; and Dassault Service Bulletin F2000-368, dated May 29, 2009. This service information describes replacement of certain brake hoses. These documents are distinct since they apply to different airplane models.

This service information is reasonably available because the interested parties have access to it through their normal course of business or by the means identified in the ADDRESSES section.

Costs of Compliance

We estimate that this AD affects 302 airplanes of U.S. registry.

We estimate the following costs to comply with this AD:

Estimated Costs
Action | Labor cost | Parts cost | Cost per product | Cost on U.S. operators
Inspection | 1 work-hour × $85 per hour = $85 | $0 | $85 | $25,670

We estimate the following costs to do any necessary installations and replacements that would be required based on the results of the inspection. We have no way of determining the number of aircraft that might need these installations and replacements:

On-Condition Costs
Action | Labor cost | Parts cost | Cost per product
Installation of brake hose | 1 work-hour × $85 per hour = $85 | $340 | $425
Installation of protective wraps | 1 work-hour × $85 per hour = $85 | 340 | 425
Replacement | 1 work-hour × $85 per hour = $85 | 340 | 425

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government. For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-16-09 Dassault Aviation: Amendment 39-18986; FAA-2017-0130; Product Identifier 2016-NM-058-AD.

(a) Effective Date

This AD is effective September 25, 2017.

(b) Affected ADs

None.

(c) Applicability

This AD applies to Dassault Aviation Model MYSTERE-FALCON 50 airplanes and FALCON 2000 airplanes, certificated in any category, all serial numbers.

Note 1 to paragraph (c) of this AD: Model MYSTERE-FALCON 50 airplanes include all commercial variants, including F50EX airplanes.

(d) Subject

Air Transport Association (ATA) of America Code 32, Landing gear.

(e) Reason

This AD was prompted by a report indicating that during ground maintenance, a Model FALCON 2000 airplane experienced a loss of hydraulic pressure affecting both hydraulic systems due to damage to both brake hoses on the main landing gear (MLG). We are issuing this AD to detect and correct unprotected brake hoses, which could lead to loss of braking during landing or a rejected take-off, and result in a runway excursion and a risk of fire if the leaking brake hydraulic fluid reaches hot parts.

(f) Compliance

Comply with this AD within the compliance times specified, unless already done.

(g) Inspection

Within 9 months after the effective date of this AD, inspect the brake hoses to identify whether any brake hose having part number (P/N) AE705317-1 or P/N 00-200-1268 is installed. A review of airplane maintenance records is acceptable in lieu of this inspection if the part number of the brake hose can be conclusively determined from that review.

(h) Installation

If, during the inspection required by paragraph (g) of this AD, it is determined that any brake hose having P/N AE705317-1 or P/N 00-200-1268 is installed, within 9 months after the effective date of this AD, do the actions specified in paragraph (h)(1) or (h)(2) of this AD.

(1) Install protective wraps on the brake hoses, in accordance with the Accomplishment Instructions of Dassault Service Bulletin F50-510, Revision 2, dated December 20, 2012; or Dassault Service Bulletin F2000-382, Revision 2, dated May 12, 2011; as applicable.

(2) Install brake hoses having P/N 00-200-1534 that are fitted with Dacron sleeves, in accordance with the Accomplishment Instructions of Dassault Service Bulletin F50-518, dated April 14, 2011; or Dassault Service Bulletin F2000-368, dated May 29, 2009; as applicable.

Note 2 to paragraphs (h)(2) and (i) of this AD: Dassault Service Bulletin F50-518, dated April 14, 2011, refers to Messier-Dowty Service Bulletin C23791-32-062, dated February 22, 2011; and Dassault Service Bulletin F2000-368, dated May 29, 2009, refers to Messier-Dowty Service Bulletin D23345-32-020, dated May 14, 2009; as additional sources of guidance for doing the replacement.

(i) Replacement

Within 6,000 flight cycles, or within 149 months, whichever occurs first after the effective date of this AD: Replace brake hoses having P/N AE705317-1 and P/N 00-200-1268 with brake hoses having P/N 00-200-1534 that are fitted with Dacron sleeves, in accordance with the Accomplishment Instructions of Dassault Service Bulletin F50-518, dated April 14, 2011; or Dassault Service Bulletin F2000-368, dated May 29, 2009; as applicable. Once brake hoses having P/N 00-200-1534 are fitted in an MLG leg, no further action is required for that MLG leg, as specified in paragraph (j) of this AD.

(j) Provisions for Unaffected MLG Leg Assemblies

If, during the inspection required by paragraph (g) of this AD, it is determined that the airplane is equipped with an MLG leg assembly with a part number specified in table 1 to paragraph (j) of this AD, the requirement of paragraph (h) of this AD is not applicable, provided that the MLG leg assembly has not been modified in service after its installation on an airplane.

Table 1 to Paragraph (j) of This AD—MLG Leg Assembly Not Affected
Model | MLG leg position | Part No.
MYSTERE-FALCON 50 airplanes | Left Hand (LH) | C23791-1009 amdt F.
MYSTERE-FALCON 50 airplanes | Right Hand (RH) | C23792-1009 amdt F.
FALCON 2000 | LH | D23345000-7 amdt B.
FALCON 2000 | RH | D23346000-7 amdt B.

Note 3 to paragraph (j) of this AD: The parts specified in table 1 to paragraph (j) of this AD are known to be delivered with brake hoses having P/N 00-200-1534 that are fitted with Dacron sleeves.

(k) Parts Installation Limitation

As of the effective date of this AD, no person may install a brake hose having P/N AE705317-1 or P/N 00-200-1268 on any airplane, unless the brake hose has been inspected to verify that protective wraps are installed on the hose, in accordance with the Accomplishment Instructions of Dassault Service Bulletin F50-510, Revision 2, dated December 20, 2012; or Dassault Service Bulletin F2000-382, Revision 2, dated May 12, 2011; as applicable.

(l) Parts Installation Prohibition

As of the effective date of this AD, no person may install, on any airplane, a brake hose having P/N AE705317-1 or P/N 00-200-1268, or an MLG leg or shock absorber equipped with a brake hose having P/N AE705317-1 or P/N 00-200-1268, after the actions in paragraphs (h)(2) or (i) of this AD are done.

(m) Credit for Previous Actions

This paragraph provides credit for actions required by paragraphs (h)(1) and (k) of this AD, if those actions were performed before the effective date of this AD using Dassault Service Bulletin F50-510, Revision 1, dated December 15, 2010; or Dassault Service Bulletin F2000-382, Revision 1, dated December 15, 2010.

(n) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (o)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Aviation Safety Agency (EASA); or Dassault Aviation's EASA Design Organization Approval (DOA). If approved by the DOA, the approval must include the DOA-authorized signature.

(o) Related Information

(1) Refer to Mandatory Continuing Airworthiness Information (MCAI) EASA AD 2013-0255, dated October 23, 2013, for related information. This MCAI may be found in the AD docket on the Internet at http://www.regulations.gov by searching for and locating Docket No. FAA-2017-0130.

(2) For more information about this AD, contact Tom Rodriguez, Aerospace Engineer, International Section, Transport Standards Branch, FAA, 1601 Lind Avenue SW., Renton, WA 98057-3356; telephone: 425-227-1137; fax: 425-227-1149.

(3) Service information identified in this AD that is not incorporated by reference is available at the addresses specified in paragraphs (p)(3) and (p)(4) of this AD.

(p) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Dassault Service Bulletin F50-510, Revision 2, dated December 20, 2012.

(ii) Dassault Service Bulletin F50-518, dated April 14, 2011.

(iii) Dassault Service Bulletin F2000-368, dated May 29, 2009.

(iv) Dassault Service Bulletin F2000-382, Revision 2, dated May 12, 2011.

(3) For service information identified in this AD, contact Dassault Falcon Jet Corporation, Teterboro Airport, P.O. Box 2000, South Hackensack, NJ 07606; telephone: 201-440-6700; Internet: http://www.dassaultfalcon.com.

(4) You may view this service information at the FAA, Transport Standards Branch, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on July 28, 2017.
John P. Piccola, Jr.,
Acting Director, System Oversight Division, Aircraft Certification Service.

[FR Doc. 2017-16579 Filed 8-18-17; 8:45 am]

BILLING CODE 4910-13-P